DEPARTMENT OF HEALTH AND HUMAN SERVICES

Health Resources and Services Administration

Agency Information Collection Activities: Proposed Collection: Comment Request

In compliance with the requirement for opportunity for public comment on proposed data collection projects (section 3506(c)(2) of Title 44, United States Code, as amended by the Paperwork Reduction Act of 1995, Public Law 104-13), the Health Resources and Services Administration (HRSA) will publish periodic summaries of proposed projects being developed for submission to OMB under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information ; (c) ways to enhance the quality, utility, and clarity of the information to be collected; and (d) ways to minimize the burden of the collection of information on respondents, including through the use of automated collection techniques of other forms of information technology.

Proposed Project: The Nursing Education Loan Repayment Program Application (OMB No. 0915-0140)—Revision

This is a request for Revision of the Nursing Education Loan Repayment Program (NELRP). The NELRP was originally authorized by 42 U.S.C. 297b(h) (section 836(h) of the Public Health Service Act) as amended by Public Law 100-607, November 4, 1988. The NELRP is currently authorized by 42 U.S.C. 297(n) (section 846 of the Public Health Service Act) as amended by Public Law 102-408, October 13, 1992.

Under the NELRP, registered nurses are offered the opportunity to enter into a contractual agreement with the Secretary under which the Public Health Service agrees to repay the nurses' indebtedness for nursing education. In exchange, the nurses agree to serve for a specified period of time in certain types of critical shortage facilities identified in the statute.

Nurse educational loan repayment contracts will be approved by the Secretary for eligible nurses who have incurred previous monetary indebtedness by accepting a loan for nursing education costs from a bank, credit union, savings and loan association, Government agency or program, school, or other lender that meets NELRP criteria.

NELRP requires the following information:

1. Applicants must provide information on the proposed service site;

2. Applicants must provide information on loan status for all loans from all lenders; and

3. Applicants must provide banking information from financial institution.

Estimates of Annualized Hour Burden: The application has been changed due to legislative and program changes and an increased budget. Burden estimates are as follows:

Form/regulatory requirement | Number of respondents | Responses per respondents | Hours per response | Total burden hours
NELRP Application | 16,000 | 1 | 1.5 | 24,000
Loan Verification Form | 16,000 | 1 | 2.5 | 40,000
Employ. Verification Form | 16,000 | 1 | .5 | 8,000
Payment Info. Form | 16,000 | 1 | 1 | 16,000
Total | 16,000 |  |  | 88,000

Send comments to Susan G. Queen, Ph.D., HRSA Reports Clearance Officer, Room 14-45 Parklawn Building, 5600 Fishers Lane, Rockville, Maryland 20857. Written comments should be received with 60 days of this notice.

Dated: January 16, 2004.
Tina M. Cheatham,
Acting Director, Division of Policy Review and Coordination.

[FR Doc. 04-1381 Filed 1-22-04; 8:45 am]

BILLING CODE 4165-15-P